DEPARTMENT OF ENERGY

Federal Energy Regulatory Commission

Notice of Draft License Application and Preliminary Draft Environmental Assessment (PDEA) and Request for Preliminary Terms and Conditions

August 15, 2001.

Take notice that the following hydroelectric application has been filed with the Commission and is available for public inspection:

a. Type of Application: Draft—New Major License.

b. Project No.: 637-016.

c. Applicant: Public Utility District No.1 of Chelan County (Chelan PUD).

d. Name of Project: Lake Chelan Hydroelectic Project.

e. Location: On the Chelan River in Chelan County, Washington. The project occupies about 465 acres of federal lands administered by the U.S Forest Service and the National Park Service.

f. Applicant Contact: Gregg Carrington, Chelan PUD, 327 North Wenatchee Avenue, P.O. Box 1231, Wenatchee, Washington 98807-1231, 509-663-8121 or within Washington State toll-free at 888-663-8121, email: gregg@chelanpud.org.

g. FERC Contact: Vince Yearick, FERC, 888 First Street, NE, Room 61-11, Washington, DC 20426, (202) 219-3073, email: vince.yearick@ferc.fed.us.

h. Chelan PUD distributed, to interested parties and Commission staff, an initial review version of their Preliminary Draft Environmental Assessment (PDEA) and draft application to interested parties on February 5, 2001 with a 90-day comment period. Chelan PUD distributed, to interested parties and Commission staff, a revised version of the PDEA and draft application to interested parties on August 15, 2001.

i. With this notice we are soliciting preliminary terms, conditions, and recommendations on the PDEA and draft license application that were distributed on August 15, 2001. All comments on the PDEA and draft license application should be sent to the Chelan PUD address above in item (f) with one copy sent to Commission staff at the address above in item (g). For those wishing to file comments with the Commission, an original and eight copies must be filed at the following address: Federal Energy Regulatory Commission, David P. Boergers, Secretary, 888 First St. NE., Washington, DC 20426. All comments should include the project name and number, and bear the heading “Preliminary Comments,” “Preliminary Recommendations,” “Preliminary Terms and Conditions,” or “Preliminary Prescriptions.” Comments and preliminary recommendations, terms and conditions, and prescriptions may be filed electronically via the Internet in lieu of paper. See 18 CFR 385.2001(a)(1)(iii) and the instructions on the Commission's web site (http://www.ferc.gov) under the “e-Filing” link.

j. Comment deadline: Any party interested in commenting must do so before October 15, 2001.

k. Locations of the application: A copy of the draft application and PDEA are on file with the Commission and are available for public inspection. This filing may also be viewed on the web at http://www.ferc.gov using the “RIMS” link—select “Docket #” and follow the instructions (call 202-208-2222 for assistance). Copies are also available for inspection and reproduction at the address in item f above.

David P. Boergers,
Secretary.

[FR Doc. 01-20961 Filed 8-20-01; 8:45 am]

BILLING CODE 6717-01-P